DEPARTMENT OF JUSTICE

Drug Enforcement Administration

Importer of Controlled Substances; Notice of Registration; Research Triangle Institute

By Notice dated July 23, 2013, and published in the Federal Register on July 31, 2013, 78 FR 46369, Research Triangle Institute, Poonam G. Pande, Ph.D. RPH, RAC, Hermann Building, East Institute Drive, P.O. Box 12194, Research Triangle, North Carolina 27709, made application by renewal to the Drug Enforcement Administration (DEA) to be registered as an importer of the following basic classes of controlled substances:

Drug | Schedule
AM-2201 (7201) | I
AM-694 (7694) | I
JWH-018 (7118) | I
JWH-073 (7173) | I
JWH-200 (7200) | I
JWH-250 (6250) | I
JWH-019 (7019) | I
JWH-081 (7081) | I
SR-19 and RCS-4 (7104) | I
JWH-122 (7122) | I
JWH-203 (7203) | I
JWH-398 (7398) | I
1-(1-Phenylcyclohexyl)pyrrolidine (7458) | I
1-[1-(2-Thienyl)cyclohexyl] piperidine (7470) | I
1-[1-(2-Thienyl)cyclohexyl] pyrrolidine (7473) | I
1-Methyl-4-phenyl-4-propionoxypiperidine (9661) | I
1-(2-Phenylethyl)-4-phenyl-4-acetoxypiperidine (9663) | I
2,5-Dimethoxy-4-ethylamphetamine (7399) | I
2,5-Dimethoxyamphetamine (7396) | I
2C-D (7508) | I
2C-E (7509) | I
2C-H (7517) | I
2C-N (7521) | I
2C-P (7524) | I
2C-T-2 (7385) | I
2C-T-7 (7348) | I
2C-I (7518) | I
2C-C (7519) | I
2C-T-4 (7532) | I
3,4,5-Trimethoxyamphetamine (7390) | I
3,4-Methylenedioxyamphetamine (7400) | I
3,4-Methylenedioxymethamphetamine (7405) | I
3,4-Methylenedioxy-N-ethylamphetamine (7404) | I
3-Methylfentanyl (9813) | I
3-Methylthiofentanyl (9833) | I
4-Bromo-2,5-dimethoxyamphetamine (7391) | I
4-Bromo-2,5-dimethoxyphenethylamine (7392) | I
4-Methyl-2,5-dimethoxyamphetamine (7395) | I
4-Methylaminorex (cis isomer) (1590) | I
4-Methoxyamphetamine (7411) | I
CP-47497 C8 Homologue (7298) | I
5-Methoxy-3,4-methylenedioxyamphetamine (7401) | I
5-Methoxy-N-N-dimethyltryptamine (7431) | I
5-Methoxy-N,N-diisopropyltryptamine (7439) | I
Acetorphine (9319) | I
Acetyl-alpha-methylfentanyl (9815) | I
Acetyldihydrocodeine (9051) | I
Acetylmethadol (9601) | I
Allylprodine (9602) | I
Alphacetylmethadol except levo-alphacetylmethadol (9603) | I
Alpha-ethyltryptamine (7249) | I
Alphameprodine (9604) | I
Alphamethadol (9605) | I
Alpha-methylfentanyl (9814) | I
Alpha-methylthiofentanyl (9832) | I
Alpha-methyltryptamine (7432) | I
Aminorex (1585) | I
Benzethidine (9606) | I
Benzylmorphine (9052) | I
Betacetylmethadol (9607) | I
Beta-hydroxy-3-methylfentanyl (9831) | I
Beta-hydroxyfentanyl (9830) | I
Betameprodine (9608) | I
Betamethadol (9609) | I
Betaprodine (9611) | I
Bufotenine (7433) | I
CP-47497 (7297) | I
Cathinone (1235) | I
Clonitazene (9612) | I
Codeine methylbromide (9070) | I
Codeine-N-Oxide (9053) | I
Cyprenorphine (9054) | I
Desomorphine (9055) | I
Dextromoramide (9613) | I
Diampromide (9615) | I
Diethylthiambutene (9616) | I
Diethyltryptamine (7434) | I
Difenoxin (9168) | I
Dihydromorphine (9145) | I
Dimenoxadol (9617) | I
Dimepheptanol (9618) | I
Dimethylthiambutene (9619) | I
Dimethyltryptamine (7435) | I
Dioxaphetyl butyrate (9621) | I
Dipipanone (9622) | I
Drotebanol (9335) | I
Ethylmethylthiambutene (9623) | I
Etonitazene (9624) | I
Etorphine except HCl (9056) | I
Etoxeridine (9625) | I
Fenethylline (1503) | I
Furethidine (9626) | I
Gamma Hydroxybutyric Acid (2010) | I
Heroin (9200) | I
Hydromorphinol (9301) | I
Hydroxypethidine (9627) | I
Ibogaine (7260) | I
Ketobemidone (9628) | I
Levomoramide (9629) | I
Levophenacylmorphan (9631) | I
Lysergic acid diethylamide (7315) | I
MDPV (7535) | I
Marihuana (7360) | I
Mecloqualone (2572) | I
Mephedrone (1248) | I
Mescaline (7381) | I
Methaqualone (2565) | I
Methcathinone (1237) | I
Methyldesorphine (9302) | I
Methyldihydromorphine (9304) | I
Methylone (7540) | I
Morpheridine (9632) | I
Morphine methylbromide (9305) | I
Morphine methylsulfonate (9306) | I
Morphine-N-Oxide (9307) | I
Myrophine (9308) | I
N,N-Dimethylamphetamine (1480) | I
N-Benzylpiperazine (7493) | I
N-Ethyl-3-piperidyl benzilate (7482) | I
N-Ethylamphetamine (1475) | I
N-Ethyl-1-phenylcyclohexylamine (7455) | I
N-Hydroxy-3,4-methylenedioxyamphetamine (7402) | I
Nicocodeine (9309) | I
Nicomorphine (9312) | I
N-Methyl-3-piperidyl benzilate (7484) | I
Noracymethadol (9633) | I
Norlevorphanol (9634) | I
Normethadone (9635) | I
Normorphine (9313) | I
Norpipanone (9636) | I
Para-Fluorofentanyl (9812) | I
Parahexyl (7374) | I
Peyote (7415) | I
Phenadoxone (9637) | I
Phenampromide (9638) | I
Phenomorphan (9647) | I
Phenoperidine (9641) | I
Pholcodine (9314) | I
Piritramide (9642) | I
Proheptazine (9643) | I
Properidine (9644) | I
Propiram (9649) | I
Psilocybin (7437) | I
Psilocyn (7438) | I
Racemoramide (9645) | I
SR-18 and RCS-8 (7008) | I
Tetrahydrocannabinols (7370) | I
Thebacon (9315) | I
Thiofentanyl (9835) | I
Tilidine (9750) | I
Trimeperidine (9646) | I
1-Phenylcyclohexylamine (7460) | II
1-Piperidinocyclohexane carbonitrile (8603) | II
4-Anilino-N-phenethyl-4-piperidine (8333) | II
Alfentanil (9737) | II
Alphaprodine (9010) | II
Amobarbital (2125) | II
Amphetamine (1100) | II
Anileridine (9020) | II
Bezitramide (9800) | II
Carfentanil (9743) | II
Coca Leaves (9040) | II
Cocaine (9041) | II
Codeine (9050) | II
Dextropropoxyphene, bulk (non-dosage forms) (9273) | II
Dihydrocodeine (9120) | II
Dihydroetorphine (9334) | II
Diphenoxylate (9170) | II
Ecgonine (9180) | II
Ethylmorphine (9190) | II
Etorphine HCl (9059) | II
Fentanyl (9801) | II
Glutethimide (2550) | II
Hydrocodone (9193) | II
Hydromorphone (9150) | II
Isomethadone (9226) | II
Levo-alphacetylmethadol (9648) | II
Levomethorphan (9210) | II
Levorphanol (9220) | II
Lisdexamfetamine (1205) | II
Meperidine (9230) | II
Meperidine intermediate-A (9232) | II
Meperidine intermediate-B (9233) | II
Meperidine intermediate-C (9234) | II
Metazocine (9240) | II
Methadone (9250) | II
Methadone intermediate (9254) | II
Methamphetamine (1105) | II
Methylphenidate (1724) | II
Metopon (9260) | II
Moramide intermediate (9802) | II
Morphine (9300) | II
Nabilone (7379) | II
Opium, raw (9600) | II
Opium extracts (9610) | II
Opium fluid extract (9620) | II
Opium tincture (9630) | II
Opium poppy/Poppy Straw (9650) | II
Oripavine (9330) | II
Poppy Straw Concentrate (9670) | II
Opium, granulated (9640) | II
Oxycodone (9143) | II
Oxymorphone (9652) | II
Pentobarbital (2270) | II
Phenazocine (9715) | II
Phencyclidine (7471) | II
Phenmetrazine (1631) | II
Phenylacetone (8501) | II
Piminodine (9730) | II
Powdered opium (9639) | II
Racemethorphan (9732) | II
Racemorphan (9733) | II
Remifentanil (9739) | II
Secobarbital (2315) | II
Sufentanil (9740) | II
Tapentadol (9780) | II
Thebaine (9333) | II

The company plans to import small quantities of the listed controlled substances for the National Institute on Drug Abuse (NIDA) for research activities.

Comments and requests for hearings on applications to import narcotic raw material are not appropriate, 72 FR 3417 (2007)

DEA has considered the factors in 21 U.S.C. 823(a) and 952(a) and determined that the registration of Research Triangle Institute to import the basic classes of controlled substances is consistent with the public interest and with United States obligations under international treaties, conventions, or protocols in effect on May 1, 1971. DEA has investigated Research Triangle Institute to ensure that the company's registration is consistent with the public interest. The investigation has included inspection and testing of the company's physical security systems, verification of the company's compliance with state and local laws, and a review of the company's background and history. Therefore, pursuant to 21 U.S.C. 952(a) and 958(a), and in accordance with 21 CFR 1301.34, the above named company is granted registration as an importer of the basic classes of controlled substances listed.

Dated: January 15, 2014.
Joseph T. Rannazzisi,
Deputy Assistant Administrator, Office of Diversion Control, Drug Enforcement Administration.

[FR Doc. 2014-02205 Filed 2-3-14; 8:45 am]

BILLING CODE 4410-09-P